ENVIRONMENTAL PROTECTION AGENCY

[ER-FRL-9054-4]

Environmental Impact Statements; Notice of Availability

Responsible Agency: Office of Federal Activities, General Information 202-564-5632 or https://www.epa.gov/nepa.

Weekly receipt of Environmental Impact Statements (EIS)

Filed December 7, 2020 10 a.m. EST Through December 14, 2020 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20200260, Final Supplement, BR, CA, B.F. Sisk Dam Raise and Reservoir Expansion Project, Review Period Ends: 01/19/2021, Contact: Casandra Arthur 530-892-6202.

EIS No. 20200261, Draft Supplement, USACE, FL, Port Everglades Harbor, Broward County, Florida, Comment Period Ends: 02/01/2021, Contact: Angela Dunn 904-232-2336.

Amended Notice

EIS No. 20200210, Draft, STB, UT, Uinta Basin Railway, Comment Period Ends: 01/28/2021, Contact: Joshua Wayland 202-245-0330.

Revision to FR Notice Published 10/30/2020; Extending the Comment Period from 12/14/2020 to 01/28/2021.

EIS No. 20200242, Draft, USACE, VA, Surry To Skiffes Creek to Whealton Transmission Project, Comment Period Ends: 02/10/2021, Contact: Randy Steffey 757-201-7579.

Revision to FR Notice Published 11/27/2020; Extending the Comment Period from 01/11/2021 to 02/10/2021.

Dated: December 14, 2020.
Cindy S. Barger,
Director, NEPA Compliance Division, Office of Federal Activities.

[FR Doc. 2020-27888 Filed 12-17-20; 8:45 am]

BILLING CODE 6560-50-P